U.S. ELECTION ASSISTANCE COMMISSION

Sunshine Act Notice

Agency: U.S. Election Assistance Commission.

Action: Notice of Closed Meeting.

Date and Time: Monday, February 2, 2009, 11 a.m.-1 p.m.

Place: U.S. Election Assistance Commission, 1201 New York Ave., NW., Washington, DC 20005. (Metro Stop: Metro Center)

Agenda: Commissioners will hold a closed session discussion of the appointment of the EAC General Counsel.

This meeting will be closed to the public.

FOR FURTHER INFORMATION CONTACT: Bryan Whitener, Telephone: (202) 566-3100.

Gracia Hm Hillman,
Vice Chair, U.S. Election Assistance Commission.

[FR Doc. E9-2192 Filed 1-28-09; 4:15 pm]

BILLING CODE 6820-KF-P